DEPARTMENT OF AGRICULTURE

Forest Service

Forestry Research Advisory Council

AGENCY: Forest Service, USDA.

ACTION: Notice of meeting.

SUMMARY: The Forestry Research Advisory Council (FRAC) will meet in Washington, DC The Council is required by Section 1441 of the Agriculture and Food Act of 1981 to provide advice to the Secretary of Agriculture on accomplishing efficiently the purposes of the Act of October 10, 1962 (16 U.S.C. 582a, et seq.), commonly known as the McIntire-Stennis Act of 1962. The Council also provides advice relative to the Forest Service research program, authorized by the Forest and Rangeland Renewable Resources Research Act of 1978 (Pub. L. 95-307, 92 Stat. 353, as amended; 16 U.S.C. 1600 (note)). FRAC information can be found at the following Web site: http://fs.fed.us/research/about/forestry-research-council/.

DATES: The meeting will be held February 23-24, 2016, at the following times:

• February 23, 2016, from 8:30 a.m.-4:30 p.m.

• February 24, 2016, from 8:30 a.m.-11:30 a.m.

All FRAC meetings are subject to cancellation. For status of the meeting prior to attendance, please contact the person listed under FOR FURTHER INFORMATION CONTACT.

ADDRESSES: The meeting will be held in the USDA Forest Service—Washington Office, Yates Building, Leopold Training Room (2SE01), 201 14th Street Southwest, Washington, DC.

Written comments may be submitted as described under SUPPLEMENTARY INFORMATION. All comments, including names and addresses when provided, are placed in the record and are available for public inspection and copying. The public may inspect comments received at USDA Forest Service—Washington Office. Please call ahead to 202-205-1665 to facilitate entry into the building.

FOR FURTHER INFORMATION CONTACT: W. Stephen Hart, FRAC Designated Federal Officer, by phone at 202-205-0844 or via email at shart@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Discuss current and emerging forestry and natural resources research issues;

2. Provide a presentation and discussion on budget outlooks and program priorities of the USDA Forest Service Research and Development and USDA National Institute of Food and Agriculture; including the McIntire-Stennis Cooperative Forestry Research Program; and

3. Discuss anticipated matters that may include USDA engagement in natural resources-related research and education, partnerships with other agencies, indisciplinary research, research in urban forestry, wood products development, and landscape-scale forest management.

The meeting is open to the public. The agenda will include time for people to make oral statements of three minutes or less. Individuals wishing to make an oral statement should request in writing by February 16, 2016, to be scheduled on the agenda. Anyone who would like to bring related matters to the attention of the committee may file written statements with the committee staff before or after the meeting. Written comments and requests for time to make oral comments must be sent to W. Stephen Hart, FRAC Designated Federal Officer, USDA Forest Service, Research and Development, 1400 Independence Avenue SW., Mail Stop 1120, Washington, DC 20250-1120; via fascimile to 202-401-1189, or via email at shart@fs.fed.us.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: January 12, 2016.
Carlos Rodriguez-Franco,
Acting Deputy Chief, Research & Development.

[FR Doc. 2016-00882 Filed 1-19-16; 8:45 am]

BILLING CODE 3411-15-P